DEPARTMENT OF DEFENSE

Office of the Secretary

Meeting of the Historical Advisory Committee

AGENCY: Department of Defense.

ACTION: Notice of open meeting.

SUMMARY: In accordance with the provisions of the Federal Advisory Committee Act, this notice announces a meeting of the Department of Defense Historical Advisory Committee. The committee will discuss the Department of the Army Historical Advisory Subcommittee's report and recommendations. The meeting will be open to the public.

DATES: Tuesday, June 24 at 10 a.m.

ADDRESSES: The meeting will be held on the 5th Floor, Suite 5000, 1777 North Kent Street, Arlington, VA 22209-2133.

FOR FURTHER INFORMATION CONTACT: Ms. Pamela Bennett at 703-588-7889 or Ms. Carolyn Thorne at 703-588-7890 for information, and upon arrival at the building in order to be admitted.

May 23, 2008.
Patricia L. Toppings,
OSD Federal Register Liaison Officer, Department of Defense.

[FR Doc. E8-12438 Filed 6-3-08; 8:45 am]

BILLING CODE 5001-06-P